FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—08/16/2004
20041201 | Carlyle Partners III, L.P. | Piedmont/Hawthorne Holdings, L.L.C | Piedmont/Hawthorne Holdings, L.L.C.
20041218 | Tiger Key Acquisition, L.P. | KAC Mezzanine Holdings Company | KAC Mezzanine Holdings Company.
20041219 | Tiger Key Acquisition, L.P. | KSS Holdings, Inc. | KSS Holdings, Inc.
20041228 | TA IX L.P. | GlobeOp Financial Services S.A. | GlobeOp Financial Services S.A.
20041229 | Flextronics International Ltd | Nortel Networks Corporation | Nortel Networks Limited, Nortel Networks S.A., Nortel Networks Tele. do Brasil Comercio e Servicos Ltda., Nortel Networks Tele. do Brasil Industria e Comeercio Ltda., Nortel Networks UK Limited.
20041233 | The Warnaco Group, Inc. | Doyle & Boissiere Fund I, LLC. | Ocean Pacific Apparel Corp.
20041236 | Mervyn's Holding, LLC. | Target Corporation | Mervyn's, Mervyn's Brand.
20041238 | Public Service Enterprise Group Incorporated | TECO Energy, Inc. | TPS Holdings II, Inc.
20041240 | J.M. Huber Corporation | Lehman FG, LLC. | CP Kelco ApS.
20041243 | Nautic Partners V, L.P. | Francis G.Hickey, Jr. | Manhattan Digital Corporation.
20041256 | West Virginia United Health System, Inc. | Gateway Regional Health System, Inc. | Gateway Regional Health System, Inc.
Transactions Granted Early Termination—08/17/2004
20041245 | Wachovia Corporation | Venturi Partners, Inc. | Venturi Partners, Inc.
20041254 | ASP III Alternative Investments, L.P. | Reservoir Capital Master Fund, L.P. | RQ, LLC.
20041267 | Babcock & Brown Holdings Inc. | Babcock & Brown Associates LLC. | Babcock & Brown Associates LLC.
20041268 | Babcock & Brown Associates LLC. | Babcock & Brown Holdings Inc. | Babcock & Brown Holdings Inc.
20041272 | The PNC Financial Services Group, Inc. | Aviation Finance Group, LLC. | Aviation Finance Group, LLC.
Transactions Granted Early Termination—08/18/2004
20041230 | Carl C. Icahn | Mylan Laboratories, Inc. | Mylan Laboratories, Inc.
20041231 | James F. Dieberg | Capital Resource Lenders II, L.P. | Loan Source Funding Corporation, Small Business Loan Source, Inc.
20041242 | 2003 Riverside Capital Appreciation Fund, L.P. | Code, Hennessy & Simmons III, L.P. | United Central Industrial Supply Company, L.L.C.
20041244 | Quad-C Partners VI, L.P. | Dubin Clark Fund II, L.P. | Universal Trailer Holdings Corp.
20041246 | Western & Southern Mutual Holding Company | Lafayette Life MIHC, Inc. | Lafayette Life MIHC, Inc.
20041248 | Clayton, Dubilier & Rice Fund VI Limited Partnership | Veolia Environnement S.A. | APIC Filter GmbH, APIC SAS, Culligan Corporation, Culligan Espana, S.A., Culligan France SAS, Culligan International (UK) Limited, Culligan Italiana, S.p.A., Culligan N.V., Culligan of Canada, Ltd., Culligan Vostok, Culligan Wassertechnik, GmbH, US Filter Argentina S.A.
20041249 | Dynamics Research Corporation | CGW Southeast Partners IV, L.P. | Impact Innovations Group LLC.
20041252 | Venturi Partners, Inc. | Comsys Holding, Inc. | Comsys Holding, Inc.
20041264 | Boral Limited | Ready Mixed Concrete Company (RMCC) | McKinney Concrete Products, LLC, Ready Mixed Concrete Company (RMCC), Sprat-Platte Ranch Co., LLLP.
Transactions Granted Early Termination—08/19/2004
20041183 | Verizon Communications, Inc. | Qwest Communications International Inc. | Qwest Wireless L.L.C.
20041277 | Joe Lewis Allbritton | Riggs National Corporation | Riggs National Corporation.
Transactions Granted Early Termination—08/20/2004
20041259 | Avaya, Inc. | Spectel plc | Spectel plc.
20041271 | Carlyle Europe Partners II LP | Clariant Ltd. | Clariant Corporation
20041275 | ASP III Alternative Investments, L.P. | Thomas L. Phillips | Doctors' Preferred, Inc., Phillips Health, LLC.
20041279 | William J. McEnery | Don H. Barden | Barden Colorado Gaming, LLC.
20041282 | New Enterprise Associates 10, L.P. | Jeffrey Citron | Vonage Holdings Corporation.
20041283 | Wells Fargo & Company | Colleen D. Porterfield | Bates Leasing Company, Ltd., Mile-High Deep Rock Water Company.
20041284 | Wells Fargo & Company | Roxanne F. Anderson | Bates Leasing Company, Ltd., Mile-High Deep Rock Water Company.
20041285 | Long Point Capital Fund, L.P. | Bank of America Corporation | Savage Sports Corporation.
20041293 | Cooperatieve Centrale Raiffeisen-Boerenleenbank B.A. | Maize Acquisition Corporation | Farm Credit Services of America, FLCA; Farm Credit Services of America, PCA; Maize Acquisition Corporation; Maize Acquisition Corporation II (FLCA).
20041295 | Sumner M. Redstone | SportsLine.com, Inc. | SportsLine.com, Inc.
20041299 | Globix Corporation | NEON Communications, Inc. | NEON Communications, Inc.
20041301 | ALLTEL Corporation | ALLTEL Coropration | Eau Claire Cellular Telephone Limited Partnership, Raleigh-Durham MSA Limited Partnership.
Transactions Granted Early Termination—08/23/2004
20041200 | Carlyle Partners III, L.P. | General Electric Company | GE Engine Services—Corporate Aviation, Inc.
20041206 | Medtronic, Inc. | Coalescent Surgical, Inc. | Coalescent Surgical, Inc.
20041216 | Teva Pharmaceutical Industries Ltd | Active Biotech AB | Active Biotech AB.
20041237 | Gardner Denver, Inc. | Audax Private Equity Fund, L.P. | nash_elmo Corp., nash_elmo Holdings LLC.
20041269 | Madison Dearborn Capital Partners IV, L.P. | Boise Cascade Corporation | BC Brazil Investment Corporation; BC Chile Investment Corp.; BCT, Inc.; BC China Corp.; Boise Alljoist Ltd.; Boise Building Products Limited; Boise Cascade do Brasil LTDA, Dr. Lauro Azambuja; Boise Cascade Corporation Chiles, S.A.; Boise Southern Company; Canada, Minnesota, Dakota & Western Railway Company; Compania Industrial Puerto Montt, S.A.; International Falls Power Company; Minidoka Paper Company.
Transactions Granted Early Termination—08/24/2004
20041276 | R.H. Donnelley Corporation | SBC Communications Inc. | APIL Partners Partnership, The Don Tech II Partnership.
20041278 | R.H. Donnelley Corporation | R.H. Donnelley Corporation | The AM-DON Partnership, The Don Tech II Partnership.
0041297 | Tootsie Roll Industries, Inc. | Concord Confections Inc. | Alpharetta Confections, Inc.; Concord Wax, LLC; Impel Movieline Inc.; Terra Rouge Estates Inc.
20041298 | Marathon Fund Limited Partnership IV | VFI Holdings, Inc. | Vitality Foodservice, Inc.
Transactions Granted Early Termination—08/25/2004
20041208 | Flextronics International Ltd. | Northfield Acquisition Co. | Northfield Acquisition Co.
20041239 | Regal-Beloit Corporation | General Electric Company | GE Industrial Systems Mexico LP, GE Industrial Systems Technology Management, Inc.
Transactions Granted Early Termination—08/26/2004
20041250 | The Garfield Weston Charitable Foundation | Graeme R. Hart | Burns, Philp Inc.
20041260 | The Garfield Weston Charitable Foundation | Mr. Graeme R. Hart | Tone Bros. Inc.
20041262 | The Sherwin-Williams Company | Bessemer Securities LLC. | Paint Sundry Brands Corporation.
20041302 | ALLTEL Corporation | Telephone and Data Systems, Inc., Voting Trust | Georgia RSA #12 Partnership.
Transactions Granted Early Termination—08/27/2004
20040902 | The Sherwin-Williams Company | Duron, Inc. | Duron, Inc.
20041291 | SLM Corporation | Helios Education Foundation | Southwest Student Services Corporation.
20041306 | Bruckmann, Rosser, Sherrill & Co. II, L.P. | SPC Partners II, L.P. | Totes Acquisition Corporation.
20041307 | CGW Southeast Partners IV, L.P. | TRP Investors LP | TruckPro, Inc.
20041308 | Citigroup Inc. | Knight Trading Group, Inc. | Knight Execution Partners LLC, Knight Financial Products LLC.
20041310 | KKR Millennium Fund L.P. | DLJ Merchant Banking Partners III, L.P. | Jostens Holding Corp.
20041320 | General Electric Company | W.D. Company, Inc. | Dillard Asset Funding Company, Dillard Credit Card Master Trust I, Dillard National Bank, Dillard's, Inc.
Transactions Granted Early Termination—09/01/2004
20041289 | FedEx Corporation | Quad/Graphics, Inc. | Parcel Direct/DDU, Inc., Parcel Direct DDU, LLC, Parcel/Direct, Inc., Parcel Direct Logistics, Inc., Parcel Direct, LP.
20041304 | Caterpillar Inc. | Remy International, Inc. | Williams Technologies, Inc.
20041318 | Mr. Bryan Gentry | L'Air Liquide SA | GT&S, LP.
20041323 | Alvarion Ltd | interWAVE Communications International Inc. | interWAVE Communications International, Inc.
Transactions Granted Early Termination—09/02/2004
20041255 | Symbol Technologies, Inc. | Matrics, Inc. | Matrics, Inc.
Transactions Granted Early Termination—09/03/2004
20041261 | Raytheon Company | Photon Research Associates, Inc. | Photon Research Associates, Inc.
20041327 | Banco Santander Central Hispano, S.A. | Abbey National plc | Abbey National plc.
20041330 | DEI Holdings, Inc. | Sanford M. Gross | Definitive Technology, LLP.
20041339 | Marquee Holdings, Inc. | AMC Entertainment Inc. | AMC Entertainment Inc.
20041341 | Macquarie Infrastructure Assets Trust | Macquarie Bank Limited | Macquarie District Energy Holdings LLC, North America Capital Holdings Company.
20041351 | Tekelec | Steleus Group, Inc. | Steleus Group, Inc.
20041359 | Caroline Hunt Trust Estate | BMC Industries, Inc. | P.T. Vision-Ease Asia, Vision-Ease Canada Ltd., Vision-Ease Lens Europe Ltd., Vision-Ease Lens, Inc.
Transactions Granted Early Termination—09/07/2004
20041135 | General Dynamics Corporation | Thyssen-Bornemieza Continuity Trust | TriPoint Global Communications Inc.
20041326 | Encore Medical Corporation | MPI Holdings, LLC. | Empi, Inc.
20041338 | Green Field II, LLC. | MMM Healthcare, Inc. | MMM Healthcare, Inc.
Transactions Granted Early Termination—09/08/2004
20041317 | The Children's Place Retail Stores, Inc. | The Walt Disney Company | TDS Franchising, LLC, The Disney Store, LLC.
20041336 | The McGraw-Hill Companies, Inc. | Capital IQ, Inc. | Capital IQ, Inc.
20041348 | AGL Resources Inc. | American Electric Power Company, Inc. | Jefferson Island Storage & Hub L.L.C.
20041349 | Ainsworth Lumber Co., Ltd | Potlatch Corporation | Potlatch Corporation.
20041355 | HKW Capital Partners II, L.P. | Maxon Corporation | Maxon Corporation.
Transactions Granted Early Termination—09/09/2004
20041322 | Michael E. Heisley, Sr | Ivaco Inc. | Ifastgroupe and Company, Limited Partnership, Ifastgroupe Realty Inc., IFC (Fasteners) Inc.
Transactions Granted Early Termination—09/10/2004
20041292 | The Pepsi Bottling Group, Inc. | Seltzer & Rydholm, Inc. | Seltzer & Rydholm, Inc.
20041311 | Merck & Co., Inc. | DOV Pharmaceutical, Inc. | DOV Pharmaceutical Inc.

for further information contact: Sandra M. Peay, Contact Representative; or Renee Hallman, Case Management Assistant, Federal Trade Commission, Premerger Notification Office, Bureau of Competition, Room H-303, Washington, DC 20580, (202) 326-3100.

By Direction of the Commission
Donald S. Clark,
Secretary.

[FR Doc. 04-21688 Filed 9-27-04; 8:45 am]

BILLING CODE 6750-01-M